DEPARTMENT OF VETERANS AFFAIRS

Nursing Research Subcommittee of the Scientific Review and Evaluation Board for Health Services Research and Development Service, Notice of Meeting

The Department of Veterans Affairs, Veterans Health Administration, gives notice under Pub. L. 92-463, that a meeting of the Nursing Research Subcommittee of the Scientific Review and Evaluation Board for Health Services Research and Development Service will be held at the Crowne Plaza Hotel, 14th and K Streets, NW, Washington, DC, April 11 through 12, 2000. On April 11, the meeting will convene from 8:00 a.m. until 5:00 p.m. and on April 12, from 8:00 a.m. until 5:00 p.m. The purpose of the meeting is to review nursing research applications that identify effective methods for improving, maintaining, and/or preventing decline in the functional status of patients; develop and test models that integrate patient care delivery and enhance health outcomes; and improve patient care. Applications are reviewed for scientific and technical merit. Recommendations regarding funding are prepared for the Chief Research and Development Officer.

This meeting will be open to the public at the start of the April 11 session for approximately one-half hour to cover administrative matters and to discuss the general status of the program. The closed portion of the meeting involves discussion, examination, reference to, and oral review of staff and consult critiques of research protocols and similar documents. During this portion of the meeting, discussion and recommendations will include qualifications of the personnel conducting the studies (the disclosure of which would constitute a clearly unwarranted invasion of personal privacy), as well as research information (the premature disclosure of which would be likely to frustrate significantly implementation of proposed agency action regarding such research projects). As provided by the subsection 10(d) of Pub. L. 92-463, as amended by Pub. L. 94-409, closing portions of these meetings is in accordance with 5 U.S.C. 552b (c)(6) and (9)(B).

Those who plan to attend the open session should contact the Assistant Director of Scientific Review, (124F), Health Research Services and Development Service, Department of Veterans Affairs, 1400 I Street, N.W., Suite 780, Washington, D.C., at least five days before the meeting. For further information, call (202) 408-3665.

Dated: January 20, 2000.
By Direction of the Secretary.
Marvin R. Eason,
Committee Management Officer.

[FR Doc. 00-2206 Filed 2-1-00; 8:45 am]

BILLING CODE 8320-01-M